DEPARTMENT OF COMMERCE

National Oceanic and Atmospheric Administration

RIN 0648-XG012

Taking and Importing Marine Mammals; Taking Marine Mammals Incidental to Gull and Climate Monitoring/Research in Glacier Bay National Park, Alaska

AGENCY: National Marine Fisheries Service (NMFS), National Oceanic and Atmospheric Administration (NOAA), Commerce.

ACTION: Notice; receipt of application for Letter of Authorization; request for comments and information.

SUMMARY: NMFS has received a request from the National Park Service (NPS) for authorization to take small numbers of marine mammals incidental to glaucous-winged gull and climate monitoring/research in Glacier Bay National Park (GLBA NP), Alaska over the course of five years from the date of issuance. Pursuant to regulations implementing the Marine Mammal Protection Act (MMPA), NMFS is announcing receipt of the NPS' request for the development and implementation of regulations governing the incidental taking of marine mammals. NMFS invites the public to provide information, suggestions, and comments on the NPS' application and request.

DATES: Comments and information must be received no later than March 26, 2018.

ADDRESSES: Comments on the applications should be addressed to Jolie Harrison, Chief, Permits and Conservation Division, Office of Protected Resources, National Marine Fisheries Service. Physical comments should be sent to 1315 East-West Highway, Silver Spring, MD 20910 and electronic comments should be sent to ITP.molineaux@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/national/marine-mammal-protection/incidental-take-authorizations-research-and-other-activities without change. All personal identifying information (e.g., name, address) voluntarily submitted by the commenter may be publicly accessible. Do not submit confidential business information or otherwise sensitive or protected information.

FOR FURTHER INFORMATION CONTACT: Jonathan Molineaux, Office of Protected Resources, NMFS, (301) 427-8401. An electronic copy of the NPS's application may be obtained online at: https://www.fisheries.noaa.gov/national/marine-mammal-protection/incidental-take-authorizations-research-and-other-activities. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On February 6, 2018, NMFS received an adequate and complete application from the NPS requesting authorization for take of marine mammals incidental to glaucous-winged gull and climate monitoring research activities in GLBA NP, Alaska. The requested regulations would be valid for five years, from March 2019 through December 2023. The NPS plans to conduct necessary work, including gull and climate monitoring to assist in informing future native egg harvests and fill crucial climate data gaps. The proposed action may incidentally expose marine mammals occurring in the vicinity to either acoustic disturbance from motorboat sounds or visual disturbance from the presence of observers, thereby resulting in incidental take, by Level B harassment only. Therefore, the NPS requests authorization to incidentally take eastern pacific harbor seals.

Specified Activities

The purpose for the monitoring activities are as follows. Gull monitoring studies are mandated by a Record of Decision of a Legislative Environmental Impact Statement (LEIS) (NPS 2010) which states that NPS must initiate a monitoring program for glaucous-winged gulls (Larus glaucescens) to inform future native egg harvest by the Hoonah Tlingit in Glacier Bay, Alaska. Installation of a new weather station on Lone Island is being planned as one of several installations intended to fill coverage gaps among existing weather stations in GLBA NP (NPS 2015a). These new stations will be operated as the foundation of a new long-term climate-monitoring program for GLBA NP. The maximum number of days the NPS will conduct annual monitoring activities that require a Letter of Authorization will be 24 days during each of the five years of work. This consists of four possible yearly climate monitoring visits to Lone Island during the months of October to April and five possible annual gull monitoring visits each to Boulder Island, Geikie Rock, Lone Island and Flapjack Island during the months of May to September. Eastern Pacific harbor (Phoca vitulina richardii) seals are the only marine mammals expected to be taken by the activities as the NPS will maintain a distance of 100 meters from all Steller sea lions.

Information Solicited

Interested persons may submit information, suggestions, and comments concerning the NPS' request (see ADDRESSES). NMFS will consider all information, suggestions, and comments related to the request during the development of proposed regulations governing the incidental taking of marine mammals by the NPS, if appropriate.

Dated: February 15, 2018.
Donna Wieting,
Director, Office of Protected Resources, National Marine Fisheries Service.

[FR Doc. 2018-03578 Filed 2-21-18; 8:45 am]

BILLING CODE 3510-22-P